GENERAL SERVICES ADMINISTRATION

Privacy Act of 1974; Proposed Revisions to a Privacy Act System of Records

AGENCY: General Services Administration

ACTION: Notice of proposed revision to an existing Privacy Act system of records

SUMMARY: The General Services Administration (GSA) proposes to revise the system of records, Emergency Notification Rosters and Files (GSA/HRO-9). The system is being renamed “Emergency Management Records” and is revised to include electronic files and databases containing personal information needed to contact GSA associates and other essential persons at work, at home, and out of the area in times of emergency. The purpose of the revised system is to ensure an up-to-date communication capability by GSA nationwide, and facilitate continuity of critical GSA missions and functions in emergency situations. The revision covers all GSA associates and contractor employees, as well as key governmental and non-governmental persons essential to carrying out emergency functions. The revision also updates the authorities for maintaining the system and updates the organizational location and title of the System Manager.

DATES: Interested persons may submit written comments on this proposal. The revision will become effective without further notice on October 13, 2004, unless comments received on or before that date require changes to the proposal.

ADDRESSES: Comments should be submitted to the GSA Privacy Act Officer (CI), Office of the Chief People Officer, General Services Administration, 1800 F Street NW, Washington DC 20405.

FOR FURTHER INFORMATION CONTACT: The GSA Privacy Act Officer at the above address, or call 202-501-1452.

Dated: August 27, 2004.
June V. Huber,
Director, Office of Information Management, Office of the Chief People Officer.

GSA/HRO-9

System name: Emergency Management Records (GSA/HRO-9).

System location: The system is the responsibility of the GSA Office of Emergency Management, located at 1800 F Street NW, Washington DC 20405. System records are located in the GSA Central Office and regional offices with assigned emergency management responsibilities.

Categories of individuals covered by the system: All GSA associates, contractor employees, and other key governmental and non-governmental persons essential to carrying out emergency activities or with a need to know of actions taken by GSA in an emergency.

Categories of records in the system: The records, composed of emergency notification rosters and files, may consist of paper records and/or electronic databases, including the Emergency Management Information Database (EMID), the Quick Notify database, and continuity of operations (COOP) files. The data may be consolidated into a centralized emergency contact database to expedite communication. Personal information in the system records includes name; office, cell, and home telephone numbers; out-of-area contact telephone numbers; home address: home e-mail address; and home fax number. System records also may include special needs information such as medical, mobility, and transportation requirements by individuals. Additional information may include official titles and emergency assignments for individuals in the system.

Authority for maintaining the system: The Federal Property and Administrative Services Act of 1949, as amended 40 U.S.C. §§ 101 et seq.; E.O. Order 12565, Assignment of Emergency Preparedness Responsibilities; and Presidential Decision Directive 67, Ensuring Constitutional Government and Continuity of Government Operations.

Purpose: To maintain current information on GSA associates and other persons covered by this system for use by persons with emergency management responsibilities to notify officials, employees, and other affected individuals of conditions that require their urgent attention during a public or personal emergency.

Routine uses of records maintained in the system, including types of users and purposes of such uses:

System information may be used by authorized individuals in the performance of duties associated with their emergency management responsibilities. Routine uses are:

a. To disclose needed information to a Federal, State, or local agency investigating, prosecuting, or enforcing a statute, rule, regulation, or order, where GSA becomes aware of a possible violation of civil or criminal law or regulation.

b. To disclose information to a Member of Congress or a congressional staff member at the request of the individual who is the subject of the record.

c. To disclose information to another Federal agency or to a court where the Government is a party to a judicial proceeding before the court.

d. To disclose information to a Federal agency, in response to its request, in connection with hiring or retaining an associate, issuing a security clearance, conducting a security or suitability investigation, classifying a job, letting a contract, or issuing a license, grant, or other benefit by the requesting agency, to the extent that the information is necessary to the agency's decision on the matter.

e. To disclose information to an appeal, grievance, or formal complaints examiner; equal employment opportunity investigator; arbitrator; exclusive representative; or other official engaged in investigating, or settling a grievance, complaint, or appeal filed by an employee.

f. To disclose information to the Office of Personnel Management (OPM) and the Government Accountability Office (GAO) when the information is required for evaluation of program activities.

g. To disclose information to the National Archives and Records Administration (NARA) for records management purposes.

h. To disclose information to an expert, consultant, or contractor in the performance of a Federal government duty to which the information is relevant.

Policies and practices for storing, accessing, retrieving, retaining, and disposing of records in the system:

Storage: System records may be stored on paper or electronically in secure locations or computer systems.

Retrievability: Records may be retrieved by name, organization, location, teleworking capability, or special medical or other health or safety need of an individual.

Safeguards: When not in use by an authorized person, the records are secured from unauthorized access. Paper records are placed in lockable file cabinets or in secured areas. Electronic records are protected by passwords, access codes, and other appropriate technical security measures.

Retention and disposal: Disposal of system records is according to the Handbook, GSA Records Maintenance and Disposition System (OAD P 1820.2A), and the requirements of the National Archives and Records Administration.

System manager(s) and address: The official with overall responsibility for the system of records is the Director, Office of Emergency Management (ACE), 1800 F Street NW, Washington DC 20405. GSA Services, Staff Offices, and regions are responsible for the integrity of data within their jurisdictions.

Notification procedure: Individuals may determine whether the system contains their records by submitting a request to the System Manager or the appropriate Service, Staff Office, or regional official.

Record access procedures: An individual may obtain information on the procedures for gaining access to their records from the System Manager or the appropriate Service, Staff Office, or regional official.

Procedures for contesting records: Individuals wishing to request amendment of their records should contact the System Manager or the appropriate Service, Staff Office, or regional official.

Record sources: The records contain information provided by the individuals themselves, their supervisors, or their Service, Staff Office, or region.

[FR Doc. 04-20563 Filed 9-10-04; 8:45 am]

BILLING CODE 6820-34-S